DEPARTMENT OF COMMERCE

National Oceanic and Atmospheric Administration

[Docket Number: 0808141100-81101-01]

Science Advisory Board; Preliminary Report of the NOAA Science Advisory Board Fire Weather Research Working Group

AGENCY: Office of Oceanic and Atmospheric Research (OAR), National Oceanic and Atmospheric Administration (NOAA), Department of Commerce (DOC).

ACTION: Notice of availability and request for public comment.

SUMMARY: NOAA Research (OAR) publishes this notice on behalf of the NOAA Science Advisory Board (SAB) to announce the availability of the preliminary draft report of the SAB Fire Weather Research Working Group's (here called the FWRWG) for public comment. The preliminary draft report of the FWRWG has been prepared pursuant to the request initiated from NOAA for an external panel of experts to carry out an independent review of current fire weather research being conducted by NOAA and other federal agencies, and in universities and elsewhere, and examine how the results of that research are being further developed and transitioned to operations by NOAA.

DATES: Comments on this preliminary report must be received by 5 p.m. on September 19, 2008.

ADDRESSES: The Preliminary Draft Report of the FWRWG will be available on the NOAA Science Advisory Board Web site at http://www.sab.noaa.gov/Reports/FWRWG.

The public is encouraged to submit comments electronically to noaa.sab.comments@noaa.gov. For individuals who do not have access to the Internet, comments may be submitted in writing to: NOAA Science Advisory Board (SAB), c/o Dr. Cynthia Decker, 1315 East-West Highway-R/SAB, Silver Spring, Maryland 20910.

FOR FURTHER INFORMATION CONTACT: Dr. Cynthia Decker, Executive Director, Science Advisory Board, NOAA, 1315 East-West Highway-R/SAB, Silver Spring, Maryland 20910. (Phone: 301-734-1156, Fax: 301-734-1459) during normal business hours of 9 a.m. to 5 p.m. Eastern Time, Monday through Friday, or visit the NOAA SAB Web site at http://www.sab.noaa.gov.

SUPPLEMENTARY INFORMATION: As part of its charge, the FWRWG was tasked to examine fire weather-related research efforts conducted by groups external to NOAA and identify areas of commonality where research activities might be leveraged for mutual benefit. The FWRWG was requested to develop findings and recommendations to ensure these research results lead to improved operational fire weather information and forecasts and to examine related research within NOAA not necessarily specific to fire but which could result in improved fire weather services or other NOAA emergency support operations. The complete terms of reference for the working group can be found at http://www.sab.noaa.gov/Working_Groups/current/fireweather/FWRWG_terms.pdf.

The SAB is chartered under the Federal Advisory Committee Act and is the only Federal Advisory Committee with the responsibility to advise the Under Secretary on long- and short-term strategies for research, education, and application of science to resource management and environmental assessment and prediction.

NOAA welcomes all comments on the content of the preliminary draft report. We also request comments on any inconsistencies perceived within the report, and possible omissions of important topics or issues. This preliminary draft report is being issued for comment only and is not intended for interim use. For any shortcoming noted within the preliminary report, please propose specific remedies. Suggested changes will be incorporated where appropriate, and a final report will be posted on the SAB Web site.

Please follow these instructions for preparing and submitting comments. Using the format guidance described below will facilitate the processing of comments and assure that all comments are appropriately considered. Overview comments should be provided first and should be numbered. Comments that are specific to particular pages, paragraphs or lines of the section should follow any overview comments and should identify the page and line numbers to which they apply. Please number each page of your comments.

Dated: August 14, 2008.
Terry Bevels,
Deputy Chief Financial Officer, Office of Oceanic and Atmospheric Research, National Oceanic and Atmospheric Administration.

[FR Doc. E8-19210 Filed 8-19-08; 8:45 am]

BILLING CODE 3510-KD-P